DEPARTMENT OF TRANSPORTATION

Federal Aviation Administration

Intent To Prepare an Environmental Impact Statement and Hold Scoping Meetings for San Diego International Airport—Lindbergh Field, San Diego, CA

AGENCY: Federal Aviation Administration DOT.

ACTION: Notice to hold one (1) public scoping meeting and one (1) Governmental/Public Agency scoping meeting.

SUMMARY: The Federal Aviation Administration (FAA) is issuing this notice to advise the public that an Environmental Impact Statement will be prepared for development recommended by the Master Plan for San Diego International Airport-Lindbergh Field, San Diego, California. To ensure that all significant issues related to the proposed action are identified, one (1) public scoping meeting and one (1) governmental and public agency scoping meeting will be held.

FOR FURTHER INFORMATION CONTACT: David B. Kessler, AICP, Environmental Protection Specialist, AWP-611.2, Planning Section, Airports Division, Federal Aviation Administration, Western-Pacific Region, P.O. Box 92007, Los Angeles, California 90009-2007, Telephone: 310/725-3615. Comments on the scope of the EIS should be submitted to the address above and must be received no later than 5 p.m. Pacific Daylight Time, Friday, August 10, 2001.

SUPPLEMENTARY INFORMATION: The Federal Aviation Administration (FAA) will prepare an Environmental Impact Statement for future development recommended by the Master Plan for San Diego International Airport-Lindbergh Field (Lindbergh Field). The need to prepare an Environmental Impact Statement (EIS) is based on the procedures described in FAA Order 5050.4A, Airport Environmental Handbook. Lindbergh Field is a commercial service airport located within a standard metropolitan statistical area and the proposed development that will require FAA approval of the Airport Layout Plan; the area around the airport contains non-compatible land uses in terms of aircraft noise; and the proposed development is likely to be controversial.

The Port of San Diego has decided to prepare an independent Draft Environmental Impact Report (EIR) for the proposed development, pursuant to the California Environmental Quality Act of 1970 (CEQA). FAA anticipates that the Port of San Diego will publish their Draft EIR during the summer of 2001. The Lead Agency for the preparation of the EIS is the Federal Aviation Administration. The following master planning development alternatives and the No Action Alternative are proposed to be evaluated in the EIS as described below:

Alternative One

Construct New North Terminal and Cargo Area

Construct new 10-gate North Terminal (approximately 255,000 square feet).

Construct North Terminal Aircraft Parking Apron and two connector taxiways from new North Terminal Apron to Taxiway C.

Relocate existing utilities included large-diameter sewer. Install utilities including underground hydrant fueling at gates.

Possible construction of fuel tender station (for gas/diesel/and possibly compressed natural gas (CNG) fueling of GSE.

Relocate north service road. Construct airport access road improvements.

Construct new cargo facility and cargo apron to accommodate eight aircraft with aircraft pushing back directly onto Taxiway C.

Construct short-term and long-term automobile parking spaces.

Alternative Two

South Terminal Expansion & Cargo Area

Construct 9-gate expansion (approximately 120, 000 square feet) on the west side of Terminal 2 West.

Expand aircraft parking apron to serve new gates and 7 Remain Over Night positions.

Demolition of existing Naval Training Center facilities including excavation of approximate 57,000 square yard former landfill to an average depth of 8 feet.

Construct 2,900-space parking garage south of Terminal 2 West on existing surface parking lot.

Construct access road improvements.

Construct air cargo facility.

Alternative Three

No Action Alternative

This alternative does not include any projects that would increase the number of gates at the terminal, automobile parking capacity or the airport's air cargo capacity.

Comments and suggestions are invited from Federal, State and local agencies, and other interested parties to ensure that the full range of issues related to these proposed projects are addressed and all significant issues are identified. Written comments and suggestions concerning the scope of the EIS may be mailed to the FAA informational contact listed above and must be received no later than 5 p.m. Pacific Daylight Time, Friday, August 10, 2001.

Public Scoping Meeting

The FAA will hold one (1) public and one (1) governmental agency scoping meeting to solicit input from the public and various Federal, State and local agencies having jurisdiction by law or having specific expertise with respect to any environmental impacts associated with the proposed projects. The public scoping meeting will be held on Wednesday, July 25, 2001 at the Port of San Diego Embarcadero Planning Center, 585 Harbor Lane, San Diego, California 92101. The meeting will be held from 2:30 p.m. to 6 p.m. Pacific Daylight Time (PDT). A scoping meeting will be held specifically for governmental and public agencies on Thursday, July 26, 2001, from 9 a.m. to 12 Noon (PDT) in the same location as the public scoping meeting.

Issued in Hawthorne, California on Friday, June 15, 2001.
Ellsworth L. Chan,
Acting Manager, Airports Division, Western-Pacific Region, AWP-600.

[FR Doc. 01-15608 Filed 6-20-01; 8:45 am]

BILLING CODE 4910-13-M